DEPARTMENT OF TRANSPORTATION

Federal Aviation Administration

14 CFR Part 13

[Docket No.: FAA-2014-0505; Amdt. No. 13-36 A]

RIN 2120-AK43

Orders of Compliance, Cease and Desist Orders, Order of Denial, and Other Orders

AGENCY: Federal Aviation Administration (FAA), DOT.

ACTION: Final rule; confirmation of effective date; disposition of comments.

SUMMARY: On August 12, 2014, the FAA published an immediate final rule (79 FR 46964) entitled “Orders of Compliance, Cease and Desist Orders, Orders of Denial, and Other Orders.” This action confirms the effective date of the immediate final rule and responds to the comments received on that immediate final rule.

DATES: The immediate final rule published August 12, 2014 (79 FR 46964) will become effective on October 14, 2014.

ADDRESSES: You may review the public docket for this rulemaking (Docket No. FAA-2014-0505) at the Docket Management Facility in Room W12-140 of the West Building Ground Floor at 1200 New Jersey Avenue SE., Washington, DC 20590-0001 between 9 a.m. and 5 p.m., Monday through Friday, except Federal holidays. You may also review the public docket on the Internet at http://www.regulations.gov.

FOR FURTHER INFORMATION CONTACT: For technical or legal questions concerning this action, contact Edmund Averman, Office of the Chief Counsel (AGC-210), Federal Aviation Administration, 800 Independence Avenue SW., Washington, DC 20591; telephone (202) 267-3147; email Ed.Averman@faa.gov.

SUPPLEMENTARY INFORMATION:

Background

On August 12, 2014, the FAA published an immediate final rule entitled “Orders of Compliance, Cease and Desist Orders, Orders of Denial, and Other Orders” (79 FR 46964). That rulemaking provides the opportunity for an informal conference with an FAA attorney before an order is issued under 14 CFR 13.20, the FAA's regulation covering orders other than certificate action and civil penalty orders. The change is necessary to provide additional fairness and process to those persons who are subject to such an order, and is consistent with the process available in other enforcement actions. These conferences may result in either a resolution of the matter or a narrowing of the issues, thereby conserving resources for respondents and the FAA.

Discussion of Comments

The FAA received one comment on the immediate final rule. The National Business Aviation Association (NBAA) welcomed the FAA's amendment to § 13.20. The NBAA recognized this change provides additional fairness to those subject to an order. The NBAA acknowledged this rule as a positive change for the industry.

Conclusion

After consideration of the comments submitted in response to the immediate final rule, the FAA has determined that no revisions to the rule are warranted based on the comments received.

Issued under authority provided by 49 U.S.C. 106(f), 44701(a), and 44707 in Washington, DC, on October 9, 2014.
Lirio Liu,
Director, Office of Rulemaking.

[FR Doc. 2014-24566 Filed 10-14-14; 8:45 am]

BILLING CODE 4910-13-P